DEPARTMENT OF TRANSPORTATION

Federal Aviation Administration

14 CFR Part 39

[Docket No. FAA-2014-0156; Directorate Identifier 2014-CE-001-AD; Amendment 39-17860; AD 2014-11-09]

RIN 2120-AA64

Airworthiness Directives; Costruzioni Aeronautiche Tecnam srl Airplanes

AGENCY: Federal Aviation Administration (FAA), Department of Transportation (DOT).

ACTION: Final rule.

SUMMARY: We are adopting a new airworthiness directive (AD) for Costruzioni Aeronautiche Tecnam srl Model P2006T airplanes. This AD results from mandatory continuing airworthiness information (MCAI) issued by an aviation authority of another country to identify and correct an unsafe condition on an aviation product. The MCAI describes the unsafe condition as a cracked engine mount. We are issuing this AD to require actions to address the unsafe condition on these products.

DATES: This AD is effective July 15, 2014.

The Director of the Federal Register approved the incorporation by reference of a certain publication listed in the AD as of July 15, 2014.

ADDRESSES: You may examine the AD docket on the Internet at http://www.regulations.gov by searching for and locating Docket No. FAA-2014-0156; or in person at Document Management Facility, U.S. Department of Transportation, Docket Operations, M-30, West Building Ground Floor, Room W12-140, 1200 New Jersey Avenue SE., Washington, DC 20590.

For service information identified in this AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx. You may view this referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 to adding an AD that would apply to Costruzioni Aeronautiche Tecnam srl Model P2006T airplanes. The NPRM was published in the Federal Register on March 14, 2014 (79 FR 14447). The NPRM proposed to correct an unsafe condition for the specified products and was based on mandatory continuing airworthiness information (MCAI) originated by an aviation authority of another country. The MCAI states:

During a “100 hours” inspection of a P2006T aeroplane, one engine mount Part Number (P/N) 26-7-1200-000 was found cracked on a node.

This condition, if not detected and corrected, could lead to engine damage, possibly resulting in damage to the aeroplane and injury to the occupants.

To address this potential unsafe condition, TECNAM issued Service Bulletin (SB) 138-CS-Rev0, providing inspection instructions.

For the reasons described above, this AD requires a one-time inspection of each engine mount P/N 26-7-1200-000 and, depending on findings, replacement of the engine mount(s).

This AD is considered an interim action and further AD action may follow.

The MCAI can be found in the AD docket on the Internet at: http://www.regulations.gov/#!documentDetail;D=FAA-2014-0156-0002.

Comments

We gave the public the opportunity to participate in developing this AD. We received no comments on the NPRM (79 FR 14447, March 14, 2014) or on the determination of the cost to the public.

Conclusion

We reviewed the relevant data and determined that air safety and the public interest require adopting the AD as proposed except for minor editorial changes. We have determined that these minor changes:

• Are consistent with the intent that was proposed in the NPRM (79 FR 14447, March 14, 2014) for correcting the unsafe condition; and

• Do not add any additional burden upon the public than was already proposed in the NPRM (79 FR 14447, March 14, 2014).

Interim Action

We consider this AD interim action. We are requiring inspection of the left hand and right hand engine mounts with a report to the manufacturer of the results if cracks or deformation is found. We will work with the type certificate holder to evaluate the report results to determine repetitive inspection intervals and subsequent terminating action. Based on this evaluation, we may initiate further rulemaking action to address the unsafe condition identified in this AD.

Costs of Compliance

We estimate that this AD will affect 10 products of U.S. registry. We also estimate that it would take about 6 work-hours per product to comply with the basic requirements of this AD. The average labor rate is $85 per work-hour.

Based on these figures, we estimate the cost of the AD on U.S. operators to be $5,100, or $510 per product.

In addition, we estimate that any necessary follow-on actions would take about 18 work-hours and require parts costing $1,570 (per engine mount), for a cost of $3,100 per product. We have no way of determining the number of products that may need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0156; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-11-09 Costruzioni Aeronautiche Tecnam srl: Amendment 39-17860; Docket No. FAA-2014-0156; Directorate Identifier 2014-CE-001-AD.

(a) Effective Date

This airworthiness directive (AD) becomes effective July 15, 2014.

(b) Affected ADs

None.

(c) Applicability

This AD applies to Costruzioni Aeronautiche Tecnam srl Model P2006T airplanes, all serial numbers, certificated in any category.

(d) Subject

Air Transport Association of America (ATA) Code 71: Power Plant.

(e) Reason

This AD was prompted by mandatory continuing airworthiness information (MCAI) originated by an aviation authority of another country to identify and correct an unsafe condition on an aviation product. The MCAI describes the unsafe condition as a cracked engine mount. We are issuing this AD to detect and correct cracked or deformed engine mounts, which could lead to engine damage, possibly resulting in damage to the airplane and injury to the occupants.

(f) Actions and Compliance

Unless already done, do the following actions as specified in paragraphs (f)(1) through (f)(3) of this AD:

(1) For airplanes with 600 hours time-in-service (TIS) or more as of July 15, 2014 (the effective date of this AD): Within the next 25 hours TIS after July 15, 2014 (the effective date of this AD) or within the next 30 days after July 15, 2014 (the effective date of this AD), whichever occurs first, inspect the left hand and right hand engine mounts, part number (P/N) 26-7-1200-000, for cracks and deformation following Costruzioni Aeronautiche TECNAM Mandatory Service Bulletin No. SB 138-CS, Rev. 0, dated November 25, 2013.

(2) For airplanes with less than 600 hours TIS as of July 15, 2014 (the effective date of this AD): After accumulating 600 hours TIS but before exceeding 625 hours TIS, inspect the left hand and right hand engine mounts, P/N 26-7-1200-000, for cracks and deformation following Costruzioni Aeronautiche TECNAM Mandatory Service Bulletin No. SB 138-CS, Rev. 0, dated November 25, 2013.

(3) If a crack or any other deformation is found during the inspection required by paragraph (f)(1) or (f)(2) of this AD, before further flight, you must contact Costruzioni Aeronautiche Tecnam srl to obtain FAA-approved repair instructions approved specifically for compliance with this AD and incorporate those instructions. You can find contact information for Costruzioni Aeronautiche Tecnam srl in paragraph (i)(3) of this AD. Use the occurrence report in Costruzioni Aeronautiche TECNAM Mandatory Service Bulletin No. SB 138-CS, Rev. 0, dated November 25, 2013.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

MCAI European Aviation Safety Agency (EASA) AD No.: 2014-0001, dated January 6, 2014, for related information. The MCAI can be found in the AD docket on the Internet at: http://www.regulations.gov/#!documentDetail;D=FAA-2014-0156-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Costruzioni Aeronautiche TECNAM Mandatory Service Bulletin No. SB 138-CS, Rev. 0, dated November 25, 2013.

(ii) Reserved.

(3) For Costruzioni Aeronautiche Tecnam srl service information identified in this AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on May 27, 2014.
Earl Lawrence,
Manager, Small Airplane Directorate, Aircraft Certification Service.

[FR Doc. 2014-12781 Filed 6-9-14; 8:45 am]

BILLING CODE 4910-13-P